DEPARTMENT OF EDUCATION

[Docket ID ED-2017-IES-0081]

Privacy Act of 1974; System of Records

AGENCY: Institute of Education Sciences, Department of Education.

ACTION: Notice of a new system of records.

SUMMARY: In accordance with the Privacy Act of 1974, as amended (Privacy Act), the Department of Education (the Department) publishes this notice of a new system of records entitled “Text Ed: A Study of Text Messaging to Improve College Enrollment Rates among Disadvantaged Adults (18-13-41).” This system contains individually identifying information voluntarily provided by grantees under the Department of Education's (Department') Educational Opportunity Centers (EOC) program which were selected to participate in the study and adult participants who receive services from those grantees. The EOC program is one of the Department's TRIO programs and primarily focuses on disadvantaged adults. The information in this system will be used to conduct a rigorous study of the effectiveness of customized text messages as an enhancement to EOC services, examining whether the messages lead to increased college enrollment and Free Application for Federal Student Aid (FAFSA) completion rates among adults receiving support from EOCs.

DATES: Submit your comments on this new system of records notice on or before January 14, 2019.

This new system of records will become applicable upon publication in the Federal Register on December 14, 2018, unless the new system of records notice needs to be changed as a result of public comment. All proposed routine uses in the paragraph entitled “ROUTINE USES OF RECORDS MAINTAINED IN THE SYSTEM INCLUDING CATEGORIES OF USERS AND PURPOSES OF SUCH USES” will become applicable on January 14, 2019, unless the new system of records notice needs to be changed as a result of public comment. The Department will publish any changes to the system of records or routine uses that result from public comment.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “Help” tab.

• Postal Mail, Commercial Delivery, or Hand Delivery: If you mail or deliver your comments about this modified system of records, address them to: SORN Coordinator, Institute of Education Sciences, U.S. Department of Education, Potomac Center Plaza, 550 12th Street SW, Room 4126, Washington, DC 20202.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Teresa Cahalan, Institute of Education Sciences, U.S. Department of Education, Potomac Center Plaza, 550 12th Street SW, Room 4126, Washington, DC 20202, or by email at IES_SORN@ed.gov.

If you use a telecommunications device for the deaf (TDD) or a text telephone (TTY), you may call the Federal Relay Service at 1-800-877-8339.

SUPPLEMENTARY INFORMATION:

Introduction

The information contained in the system will be used to conduct a study of the effectiveness of personalized text messaging in improving the college enrollment and FAFSA completion rates of disadvantaged adults. The messaging will be implemented as an enhancement to services provided by Educational Opportunity Centers. The information collected will be used to describe the implementation of the study's text messaging intervention and to estimate the impact of the intervention on study participants' rates of FAFSA completion and college enrollment.

Accessible Format: Individuals with disabilities can obtain this document in an accessible format (e.g., Braille, large print, audiotape, or compact disc) on request to the person listed under FOR FURTHER INFORMATION CONTACT.

Electronic Access to This Document: The official version of this document is the document published in the Federal Register. You may access the official edition of the Federal Register and the Code of Federal Regulations at: www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: December 11, 2018.
Mark Schneider,
Director, Institute of Education Sciences.

SYSTEM NAME AND NUMBER:

Text Ed: A Study of Text Messaging to Improve College Enrollment Rates among Disadvantaged Adults (18-13-41).

SECURITY CLASSIFICATION:

Unclassified.

SYSTEM LOCATION:

MDRC, 19th Floor, 16 East 34th Street, New York City, NY 10016-4326 (contractor).

Signal Vine, 811 North Royal Street, Alexandria, VA 22314-1715 (subcontractor).

SYSTEM MANAGER(S):

Project's contracting officer representative, Institute of Education Sciences, U.S. Department of Education, Potomac Center Plaza, 550 12th Street SW, Room 4105, Washington, DC 20202.

AUTHORITY FOR MAINTENANCE OF THE SYSTEM:

The study is authorized under sections 171(b) and 173 of the Education Sciences Reform Act of 2002 (ESRA) (20 U.S.C. 9561(b) and 9563) and title IV, part A, subpart 2, chapter 1 of the Higher Education Act of 1965, as amended (20 U.S.C. 1070a-11-1070a18).

PURPOSE(S) OF THE SYSTEM:

The information contained in the records maintained in this system will be used to conduct a rigorous study of customized text messaging to improve the college enrollment and Free Application for Federal Student Aid (FAFSA) completion rates of adult participants in Educational Opportunity Centers (EOCs).

The study will address the following central research questions: Does providing personalized messages to EOC participants increase FAFSA completion rates? Does it increase college enrollment rates? What are participants' experiences with the text messages (for instance, how often do they receive the messages? How often do they text back in response?)? Secondary research questions for the study are: To what extent does the effectiveness of the messaging vary across EOC grantee sites? To what extent does the effectiveness vary across participant subgroups?

CATEGORIES OF INDIVIDUALS COVERED BY THE SYSTEM:

This system will contain records on adults participating in an impact study of customized text messaging to improve college enrollment and FAFSA completion rates. The system will contain records on approximately 6,000 adult participants at up to 20 EOCs.

CATEGORIES OF RECORDS IN THE SYSTEM:

The information in the records in this system will include, but will not necessarily be limited to the following information about participants: Full name, address, telephone number, email address, date of birth, sex, race/ethnicity, income, Social Security number, educational background and plans, whether the participant is a caretaker for children, parents' educational background, primary language spoken, FAFSA completion status, and college enrollment status. Participants' contact and background information will be used to send out the text messages and customize the content of the messages. Social Security numbers will be used, along with participants' names and dates of birth, to extract college enrollment statuses and FAFSA completion statuses from the databases of the National Student Clearinghouse and the Department's Federal Student Aid office (FSA), respectively.

RECORD SOURCE CATEGORIES:

Participant background data will be obtained through administrative records maintained by study EOCs and through a survey of study participants. College enrollment data will be obtained through the National Student Clearinghouse. FAFSA completion data will be obtained through administrative records maintained by FSA. Participants' texting records will be obtained from the study's text message provider, Signal Vine.

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purposes for which the record was collected. The Department may make these disclosures on a case-by-case basis or, if the Department has complied with the computer matching requirements of the Privacy Act of 1974, as amended (Privacy Act), under a computer matching agreement. Any disclosure of individually identifiable information from a record in this system must also comply with the requirements of section 183 of the ESRA (20 U.S.C. 9573) providing for confidentiality standards that apply to all collection, reporting, and publication of data by the Institute of Education Sciences.

(1) Contract Disclosure. If the Department contracts with an entity for the purpose of performing any function that requires disclosure of records in this system to employees of the contractor, the Department may disclose the records to those employees. As part of such a contract, the Department will require the contractor to agree to maintain safeguards to protect the security and confidentiality of the records disclosed from the system.

(2) Obtaining Participants' Academic Records Disclosure. In order to permit the Department or its contractor to obtain a participant's academic records from the National Student Clearinghouse consistent with the purpose of the study, the Department or its contractor may disclose records to the National Student Clearinghouse.

(3) Participant Identification Disclosure. In order to permit EOC staff to communicate via text message with participants assigned to receive text messages consistent with the purpose of the study, the Department may disclose to each participating EOC the identities of the Center's adults assigned to receive text messages.

(4) Research Disclosure. The Department may disclose information from this system of records to qualified researchers solely for the purpose of carrying out specific research that is compatible with the purpose(s) of this system of records. The researcher must agree to maintain safeguards to protect the security and confidentiality of such records.

POLICIES AND PRACTICES FOR STORAGE OF RECORDS:

Records in this system are maintained in a secure, password-protected electronic system.

POLICIES AND PRACTICES FOR RETRIEVAL OF RECORDS:

Records in this system will be indexed and retrieved by a unique number assigned to each individual that will be cross-referenced by the individual's name on a separate list.

POLICIES AND PRACTICES FOR RETENTION AND DISPOSAL OF RECORDS:

The Department will submit a retention and disposition schedule that covers the records contained in this system to the National Archives and Records Administration (NARA) for review. The records will not be destroyed until such time as NARA approves said schedule.

ADMINISTRATIVE, TECHNICAL, AND PHYSICAL SAFEGUARDS:

Security protocols for this system of records meet all required security standards. The contractor will be required to ensure that information identifying individuals is in files physically separated from other research data and electronic files identifying individuals are separated from other electronic research data files. The contractor and subcontractor will maintain security of the complete set of all master data files and documentation. Access to individually identifiable data will be strictly controlled. All information will be kept in locked file cabinets during nonworking hours, and work on hardcopy data will take place in a single room, except for data entry.

Physical security of electronic data also will be maintained. Security features that protect project data will include: Password-protected accounts that authorize users to use the contractor's and subcontractor's systems but to access only specific network directories and network software; user rights and directory and file attributes that limit those who can use particular directories and files and determine how they can use them; and additional security features that the network administrators will establish for projects as needed. The contractor's and subcontractor's employees who “maintain” (collect, maintain, use, or disseminate) data in this system must comply with the requirements of the Privacy Act and the confidentiality standards in section 183 of the ESRA (20 U.S.C. 9573).

RECORD ACCESS PROCEDURES:

If you wish to request access to your records, you must contact the system manager at the address listed above. Your request must provide necessary particulars of your full name, address, telephone number, and any other identifying information requested by the Department while processing the request, to distinguish between individuals with the same name. Your request must meet the requirements of regulations in 34 CFR 5b.5, including proof of identity.

CONTESTING RECORD PROCEDURES:

If you wish to contest the content of a record regarding you in the system of records, contact the system manager at the address listed above. Your request must meet the requirements of the regulations in 34 CFR 5b.7.

NOTIFICATION PROCEDURES:

If you wish to inquire whether a record exists regarding you in this system, you must contact the system manager at the address listed above. You must provide necessary particulars of your full name, address, and telephone number, and any other identifying information requested by the Department while processing the request, to distinguish between individuals with the same name. Your request must meet the requirements of the Department's Privacy Act regulations at 34 CFR 5b.5, including proof of identity.

EXEMPTIONS PROMULGATED FOR THE SYSTEM:

None.

HISTORY:

None.

[FR Doc. 2018-27144 Filed 12-13-18; 8:45 am]

BILLING CODE 4000-01-P